ADMINISTRATIVE OFFICE OF THE UNITED STATES COURTS

Regulations for the Administration of Payments to Chapter 7 Trustees Under Section 330(e) of the Bankruptcy Code

AGENCY: Administrative Office of the United States Courts.

ACTION: Interim regulations; request for comments.

SUMMARY: The Administrative Office of the United States Courts is promulgating interim regulations for the administration of payments to trustees that have rendered services in cases filed under or converted to chapter 7 of title 11, United States Code, from January 12, 2021, through September 30, 2026. These regulations govern trustees' entitlement to payment under the Bankruptcy Administration Improvement Act of 2020 and processes for requesting such payment from the bankruptcy court in which the case was filed.

The text of the proposed interim regulations were posted on August 30, 2021, on regulations.gov at: https://www.regulations.gov/docket/USC-USC-2021-0006.

All written comments and suggestions with respect to the proposed interim regulations may be submitted on or after the opening of the period for public comment on August 30, 2021, but no later than September 17, 2021. Written comments must be submitted electronically, following the instructions provided on the website.

DATES:

Effective date: These regulations are effective on September 30, 2021.

Comment date: Comments due on or before September 17, 2021.

ADDRESSES: You may send comments by the following method:

• Federal eRulemaking Portal: https://www.regulations.gov/docket/USC-USC-2021-0006. Follow the instructions for sending comments.

FOR FURTHER INFORMATION CONTACT: Daniel Isaacs-Smith, Senior Attorney, Administrative Office of the United States Courts, Thurgood Marshall Federal Judiciary Building, One Columbus Circle NE, Room 4-272, Washington, DC 20544, Telephone (202) 502-1800, AOml_BAIA2020@ao.uscourts.gov.

SUPPLEMENTARY INFORMATION: Statutory authority: 11 U.S.C. 330(e)(6).

Dated: August 30, 2021.
Daniel Isaacs-Smith,
Senior Attorney.

[FR Doc. 2021-18968 Filed 9-1-21; 8:45 am]

BILLING CODE 2210-55-P